DEPARTMENT OF AGRICULTURE

Food and Nutrition Service

Agency Information Collection Activities: Proposed Collection; Comment Request—Evaluation of Reaching the Underserved Elderly and Working Poor in SNAP

AGENCY: Food and Nutrition Service (FNS), USDA.

ACTION: Notice.

SUMMARY: In accordance with the Paperwork Reduction Act of 1995, this notice invites the general public and other public agencies to comment on this proposed information collection. This is a new collection for the contract Evaluation of Reaching the Underserved Elderly and Working Poor in SNAP.

DATES: Written comments must be received on or before June 21, 2010.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Director, Office of Research and Analysis, U.S. Department of Agriculture, Food and Nutrition Service, 3101 Park Center Drive, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION:

Title: Evaluation of Reaching the Underserved Elderly and Working Poor in SNAP: FY 2009 Pilots.

Form Number: [if applicable, insert number.]

OMB Number: [Not Yet Assigned.]

Expiration Date: [Not Yet Determined.]

Type of Request: New collection.

Abstract: Less than one-third of eligible elderly (age 60 and older) persons and less than three-fifths of persons in eligible households with someone working participate in the Supplemental Nutrition Assistance Program (SNAP), according to the latest (2007) U.S. Department of Agriculture (USDA) estimates. These participation rates suggest that many people in these two groups who may need nutrition assistance are not receiving SNAP benefits. Without SNAP, elderly individuals may not be able to meet their nutritional needs or may forgo medicine for food; working people may not be able to adequately feed their families, despite their work efforts.

The Food and Nutrition Service (FNS), responding to a Congressional request, has funded six State demonstration projects to increase SNAP access to eligible households with either persons over age 60 or with adult members who are working or looking for work. FNS is conducting an evaluation of the demonstration projects. By evaluating these demonstrations, FNS will be able to advise Federal policymakers and State administrators on the best approaches to increasing SNAP access for these two populations.

The evaluation of the demonstration projects has several objectives. The evaluation will describe each demonstration project and the implementation process; assess the impact on SNAP participation in the target groups, application barriers, client satisfaction, household benefits, administrative costs, and payment errors; and assess the sustainability and replicability of each demonstration project. To meet these objectives, FNS will collect information from the pilot and comparison sites before, during, and after the intervention. FNS will collect and analyze administrative data in each demonstration State and will conduct site visits to each demonstration project and conduct focus groups with SNAP applicants. This collection notice pertains only to the focus group with SNAP applicants.

FNS will conduct one focus group with SNAP applicants in each of the six demonstration States. Focus group participants will consist of individuals within the target population (either elderly or working poor) who have applied for SNAP sometime in the three months prior to the focus group (regardless of the outcome of their application). Each of the six demonstration States will provide FNS with a list of 200 potential respondents from which FNS will recruit approximately 20 who agree to attend the focus group in each State (expecting that approximately 10 will actually participate on the day of the group). To assist in the recruitment effort, FNS will offer a small financial incentive for participation as well as funds for transportation and childcare, as needed.

Each focus group is expected to be approximately 90 minutes in length and will take place at a convenient location in the demonstration community. The focus groups will ask participants how they learned about SNAP, about their experiences completing the application process, and about their perceptions of the process.

Affected Public: 1,200 Individuals. Respondent groups identified include: (1) 600 elderly SNAP applicants in 3 demonstration States (200 per State) and (2) 600 working poor SNAP applicants in 3 other demonstration States (200 per State).

Estimated Number of Respondents: The total estimated number of respondents is 1,200.

Estimated Number of Responses per Respondent: 1.05.

Estimated Total Annual Responses: 1,200 for the screening questions and 60 for the focus groups, for a total of 1,260.

Estimated Time per Response: The estimated time per response varies from .0835 hours (5 minutes) to 1.667 hours (100 minutes), depending on whether or not the respondent is eligible for and participates in the focus group (see table below).

Estimated Total Annual Burden on Respondents: 195.22 hours. This includes contacting and screening up to 200 respondents at each of the 6 sites, for a total of 10 focus group participants at each site. See the table below for estimated total annual burden for each type of respondent.

Table 1—Reporting Burden by Respondent Type
Respondent* | Estimated number respondents | Responses annually per respondent | Total annual responses | Estimated avg. number of hours per response | Estimated total hours**
Focus Group Nonparticipants
Working Poor SNAP Applicants | 570 | 1 | 570 | 0.0835 | 47.60
Elderly SNAP Applicants | 570 | 1 | 570 | 0.0835 | 47.60
Focus Group Participants
Working Poor SNAP Applicants | 30 | 2 | 60 | 1.667 | 50.01
Elderly SNAP Applicants | 30 | 2 | 60 | 1.667 | 50.01
Total Reporting Burden | 1,200 |  | 1,260 |  | 195.22
* Nonparticipants will participate in a brief screening call only. Participants will participate in the focus group.
** The total burden for the focus group participants includes an initial screening call for participants and nonparticipants, as well as a reminder call and letter and focus group time for the participants.

Dated: April 15, 2010.
Julia Paradis,
Administrator, Food and Nutrition Service.

[FR Doc. 2010-9310 Filed 4-21-10; 8:45 am]

BILLING CODE 3410-30-P